DEPARTMENT OF THE INTERIOR

Bureau of Land Management

[WO-260-1060-PC-24 1A]

Notice of Reestablishment of the Wild Horse and Burro Advisory Board

AGENCY: Bureau of Land Management, Interior.

ACTION: Reestablishment of the Wild Horse and Burro Advisory Board.

SUMMARY: This notice is published in accordance with Section 9(a)(2) of the Federal Advisory Committee Act of 1972 (U.S.C. App.). Pursuant to Section 7 of the Wild Free-Roaming Horse and Burro Act (Public Law 92-195), notice is hereby given that the Secretary of the Interior and the Secretary of Agriculture are reestablishing the Wild Horse and Burro Advisory Board.

SUPPLEMENTARY INFORMATION: The purpose of the Wild Horse and Burro Advisory Board is to provide advice concerning management, protection, and control of wild free-roaming horses and burros on the public lands administered by the Department of the Interior, through the Bureau of Land Management, and the Department of Agriculture, through the Forest Service.

The Board will meet no less than two times annually. Additional meetings may be called by the Director, Bureau of Land Management, in connection with special needs for advice.

ADDRESSES: Wild Horse and Burro Group, WO-260, Bureau of Land Management, Department of the Interior, 1849 “C” St. NW., Room 302 LS, Washington, DC 20240.

FOR FURTHER INFORMATION CONTACT: Lee Delaney, Group Manager, Wild Horse and Burro Program at (202) 452-7744, e-mail Lee_Dleaney@blm.gov.

Dated: March 22, 2000.
Bruce Babbitt,
Secretary of the Interior.

[FR Doc. 00-15074 Filed 6-14-00; 8:45 am]

BILLING CODE 4310-84-M